DEPARTMENT OF TRANSPORTATION

[Docket No.: MARAD 2004—17114]

Availability of a Finding of No Significant Impact

AGENCY: Maritime Administration, Department of Transportation.

ACTION: Notice of the availability of a Finding of No Significant Impact.

SUMMARY: The purpose of this notice is to make available to the public the Finding of No Significant Impact (FONSI) derived from the Environmental Assessment (EA) regarding the Port of Anchorage (Port) Road and Rail Extension, Port Intermodal Expansion Project. The purpose for the project is to improve and enhance the existing road and rail capability at the Port.

FOR FURTHER INFORMATION CONTACT: Daniel E. Yuska, Jr., Environmental Protection Specialist, Office of Environmental Activities, U.S. Maritime Administration, 400 7th Street, SW., Washington, DC 20590; telephone (202) 366-0714, fax (202) 366-0714.

SUPPLEMENTARY INFORMATION: The Maritime Administration, in cooperation with the Port of Anchorage, completed an EA that studied potential environmental effects associated with the expansion of the existing road and rail system used by the Port. The EA considered potential effects to the natural and human environments including: Air quality; water quality; geology and soils; coastal resources; terrestrial resources; aquatic resources; navigation; hazardous materials; cultural and historic resources; visual and aesthetic resources; and other topics associated with the proposed action. The FONSI is based on the analysis presented in the Port of Anchorage Intermodal Expansion, Road and Rail Environmental Assessment. The FONSI and the EA are available for review online at http://www.marad.dot.gov; http://dms.dot.gov; www.portofanchorage.org; and at the Loussac Library in Anchorage.

Authority: 49 CFR 1.66.

By Order of the Maritime Administrator.
Dated: February 17, 2004.
Joel C. Richard,
Secretary, Maritime Administration.

[FR Doc. 04-3726 Filed 2-19-04; 8:45 am]

BILLING CODE 4910-81-P